DEPARTMENT OF THE INTERIOR

National Park Service

Notice of Intent To Prepare a General Management Plan, Environmental Impact Statement, for the Martin Van Buren National Historic Site, in Kinderhook, NY in the County of Columbia, and To Conduct Public Scoping Meetings

AGENCY: National Park Service, Department of the Interior.

ACTION: Notice of Intent to prepare an Environmental Impact Statement for the General Management Plan for Martin Van Buren National Historic Site and to hold public scoping meetings.

SUMMARY: Pursuant to the National Environmental Policy Act of 1969, 42 U.S.C. 4332(2)(C), as amended, the National Park Service (NPS) is preparing an Environmental Impact Statement (EIS) for the General Management Plan (GMP) for the Martin Van Buren National Historic Site (NHS) in Kinderhook, New York. This effort will result in a comprehensive general management plan that encompasses preservation of natural and cultural resources, visitor use and interpretation, park carrying capacity and any necessary facilities. The planning area includes Martin Van Buren's home from 1839-62, Lindenwald, various out buildings and roads and the 39 acres that comprise the entire National Historic Site established by Congress in 1974. Attention will also be given to resources outside the boundaries that may affect the integrity of the site.

The GMP/EIS will be prepared by planners in the NPS Northeast Region and park staff with assistance from advisors and consultants, and will propose a long-term approach to managing the Martin Van Buren NHS. Consistent with the site's mission, NPS policy, and other laws and regulations, alternatives will be developed to guide the management of the Martin Van Buren NHS over the next 15 to 20 years. The GMP/EIS will address a range of management alternatives for natural and cultural resource protection, visitor use and interpretation, park carrying capacity, facilities development and operations. A `no-action' alternative will also be considered and an agency preferred management alternative selected. The EIS will assess the impacts of the alternatives presented in the GMP.

Meeting Notices: Public scoping meetings will be scheduled and consist of a discussion of the GMP/EIS process including ways that the public can be involved in providing and receiving information, and reviewing and commenting upon the draft GMP/EIS. The purpose of the meetings will be to solicit public input prior to formally undertaking the GMP/EIS. The place and time of public scoping meetings will be announced by the National Park Service (NPS) and noticed in local newspapers serving the area. Scoping and other periodic public meeting notices and information regarding the GMP/EIS will also be placed on the NPS Planning, Environment and Public Comment (PEPC) Web site at http://parkplanning.gov for continuing public review and comment.

FOR FURTHER INFORMATION CONTACT:

Daniel Dattilio, Superintendent, Martin Van Buren National Historic Site, 1013 Old Post Road, Kinderhook, New York 12106, Telephone: 518-758-6986. E-mail: dan_dattilio@nps.gov

Peter Samuel, Community Planner/Project Manager, National Park Service, Division of Park Planning and Special Studies, 200 Chestnut Street, Philadelphia, PA 19106, Telephone: 215-597-1848. E-mail: peter_samuel@nps.gov

Dated: August 28, 2007.
John A. Latschar,
Acting Regional Director, Northeast Region, National Park Service.

[FR Doc. E7-24010 Filed 12-10-07; 8:45 am]

BILLING CODE 4310-W3-P